DEPARTMENT OF ENERGY

Senior Executive Service; Performance Review Board

AGENCY: Department of Energy.

ACTION: SES Performance Review Board Standing Register.

SUMMARY: This notice provides the Performance Review Board Standing Register for the Department of Energy. This listing supersedes all previously published lists of PRB members.

EFFECTIVE DATE: These appointments are effective as of September 30, 2002.

Ackerly, Lawrence R.

Allison, Jeffrey M.

Anderson, Charles E.

Anderson, James L.

Anderson, Margot H.

Angulo, Veronica A.

Aoki, Steven

Arkin, Richard W.

Arthur III, William John

Ascanio, Xavier

Baca, Frank A.

Baca, Mark C.

Bailey Jr, Lawrence O.

Bajura, Rita A.

Baker, Kenneth E.

Ballard, William W.

Barker Jr, William L.

Bashista, John R.

Bauer, Carl O.

Baur, Daniel J.

Beckett, Thomas H.

Beecy, David J.

Bergholz Jr, Warren E.

Berube, Raymond P.

Bielan, Douglas J.

Bilson, Helen E.

Black, Richard L.

Black, Steven K.

Blackwood, Edward B.

Bladow, Joel K.

Boardman, Karen L.

Borchardt, Charles A.

Borgstrom, Carol M.

Borgstrom, Howard G.

Bowman, Gerald C.

Boyd, Gerald G.

Braden Jr, Robert C.

Bradley, Samuel M.

Brendlinger, Terry L.

Brewer, Robert H.

Breznay, George B.

Brocoum, Stephan J.

Brodman, John R.

Bromberg, Kenneth M.

Bronstein, Eli B.

Brown III, Robert J.

Brumley, William J.

Bubar, Patrice M.

Burns, Allen L.

Burrows, Charles W.

Butler, Jerome M.

Butler, Roger A.

Campbell, Elizabeth E.

Campbell, James Thomas

Carabetta, Ralph A.

Caravelli, John M.

Cardinali, Henry A.

Carey Jr, Robert H.

Carlson, John T.

Carlson, Kathleen Ann

Cary, Steven V.

Cavanagh, James J.

Chacey, Kenneth A.

Chaney, Kimberly A. Hayes

Christensen, William J.

Chun, Sun W.

Clark III, Willie

Clark, John R.

Clausen, Max Jon

Coburn, Leonard L.

Combs, Marshall O.

Conti, John J.

Cook, John S.

Corey, Ray J.

Costlow, Brian D.

Cowan, Gwendolyn S.

Craig Jr, Jack R.

Crandall, David H.

Crawford, David W.

Cross, Claudia A.

Crowe, Richard C.

Cumesty, Edward G.

Curtis, James H.

Cygelman, Andre I.

D'Agostino, Thomas

Darugh, David G.

Davies, Nelia A.

De Lorenzo, Ralph H.

Decker, James F.

Dedik, Patricia

Degrasse Jr, Robert W.

Dehmer, Patricia M.

Dehoratiis Jr, Guido

Deihl, Michael A.

Delwiche, Gregory K.

Demko, Joseph C.

Dennison, William J.

Der, Victor K.

Dever, Gertrude L.

Difiglio, Carmen NMN.

Dixon, Robert K.

Dobriansky, Larisa E.

Doggett, Frederick D.

Doherty, Donald P.

Dooley III, George J.

Durnan, Denis D.

Dyer, J. Russell

Eberwein, Catherine D.

Edmondson, John J.

Egger, Mary H.

Elwood, Jerry W.

Erickson, Leif

Erickson, Ralph E.

Esvelt, Terence G.

Evans, Karen S.

Faulkner, Douglas L.

Fiore, James J.

Fitzgerald, Cheryl P.

Foley, Kathleen Y.

Folker, Robert D.

Fowler, Jennifer Johnson

Franklin, Charles Anson

Frazier, Marvin E.

Frei, Mark W.

Fryberger, Teresa

Furiga, Richard D.

Fygi, Eric J.

Gale, Barry G.

Garcia, Marvin L.

Garland, Robert W.

Garson, Henry K.

Gebus, George R.

Geidl, John C.

Gibson Jr, William C.

Gibson, Judith D.

Gilbertson, Mark A.

Ginsberg, Mark B.

Glenn, Daniel E.

Glotfelty, James W.

Golan, Paul M.

Goldsmith, Robert NMN.

Gollomp, Lawrence A.

Goodrum, William S.

Gordon-Hagerty, Lisa E.

Gottlieb, Paul A.

Greenberg, Raymond F.

Greenwood, Johnnie D.

Gross, Thomas J.

Gunn Jr, Marvin E.

Gurule, David A.

Haberman, Norton NMN.

Hacskaylo, Michael S.

Hafner, Steven C.

Hansen, Charles A.

Hardin, Michael G.

Hardwick Jr, Raymond J.

Hartman, James K.

Hartman, John R.

Harvey, John R.

Harvey, Tobin K.

Hass, Rickey R.

Hawthorne, Joan Gates

Headley, Larry C.

Heenan, Thomas F.

Hensley Jr, Willie F.

Hibbitts Jr, Howard D.

Hickok, Steven G.

Hill, David R.

Hirahara, James S.

Hodson, Patricia J.

Hollander, Marc S.

Holland, Michael D.

Hollowell, Betty L. N.

Hooper, Michael K.

Hopf, Richard H.

Horton, Donald G.

Hudome, Randa F.

Huizenga, David G.

Hunemuller, Maureen A.

Hutzler, Mary Jean

Izell, Kathy D.

Jaffe, Harold

Jenkins, Robert G.

Johnson, Frederick M.

Johnson, Milton D.

Johnson, Owen B.

Johnson, Robert Shane

Johnson, Sandra L.

Johnston, Marc

Jones, C. Rick

Jordan, Rosalie M.

Joseph, Antionette Grayso

Juarez, Liova D.

Juckett, Donald A.

Judge, Geoffrey J.

Kane, Michael C.

Kelliher, Joseph T.

Kennedy, John P.

Kersten, John H.

Keselburg, James D.

Kessler, Elizabeth A.

Kight, Gene H.

Kilgore, Webster C.

Kilpatrick, Michael A.

Kirkendall, Nancy J.

Kirkman, Larry D.

Kirk, Robert S.

Klein, Keith A.

Klein, Susan Elaine

Knipp, Robert M.

Knox, Eric K.

Konopnicki, Thad T.

Kovar, Dennis G.

Kruger, Paul W.

Lambert, James B.

Landers, James C.

Lane, Anthony R.

Lange, Robert G.

Lawrence, Andrew C.

Lee, Steven NMN.

Lehman, Daniel R.

Levin Jr, William B.

Lewis Jr, William A.

Lewis, Roger A.

Lightner, Ralph G.

Longsworth, Paul M.

Lopatto, Jeanne T.

Lowe, Owen W.

Maddox, Mark R.

Maguire, Joseph J.

Magwood IV, William D.

Mahaley, Joseph S.

Maharay, William S.

Maher, Mark W.

Male, Barbara D.

Malosh, George J.

Mangeno, James J.

Mann, Thomas O.

Marcois, Barton W.

Marcus, Gail H.

Markel Jr, Kenneth E.

Marks Jr, David L.

Marlay, Robert C.

Marmolejos, Poli A.

Masterson, Mary A.

Mazurowski, Barbara A.

McCloud, Floyd R.

McCracken, Stephen H.

McDonnell III, James F.

McKee, Barbara N.

McMonigle, Joseph P.

McRae, James Bennett

McSlarrow, Kyle E.

Meeks, Timothy J.

Mellington, Suzanne P.

Meyer, Charles E.

Michelsen, Stephen J.

Miller, Clarence L.

Miller, Deborah C.

Millhone, John P.

Milner, Ronald A.

Miotla, Dennis M.

Monette, Deborah D.

Monhart, Jane L.

Moorer, Richard F.

Morrow, Margaret K.

Mosquera, James P.

Mournighan, Stephen D.

Mueller, Troy J.

Murphie, William E.

Murphy, Alice Q.

Nealy, Carson L.

Nichols, Clayton R.

Nolan, Elizabeth A.

Norman, Paul E.

Nulton, John D.

O'Brien, Betsy K.

O'Donovan, Kevin M.

O'Fallon, John R.

Olinger, Shirley J.

Oliver, Lawrence R.

Oliver, Stephen R.

Oosterman, Carl H.

Ott, Merrie Christine

Owendoff, James M.

Owen, Michael W.

Owens, Karen A.

Paduchik, Robert A.

Parks Jr, William P.

Parnes, Sanford J.

Patrinos, Aristides A.

Pearson, Orin F.

Pease, Harrison G.

Penry, Judith M.

Perin, Stephen G.

Peterson, Bradley A.

Pettengill, Harry J.

Piper II, Lloyd L.

Podonsky, Glenn S.

Poe, Robert W.

Powers, James G.

Powers, Kenneth W.

Price Jr, Robert S.

Provencher, Richard B.

Przybylek, Charles S.

Przysucha, John L.

Pumphrey, David L.

Rapuano, Kenneth P.

Reed, Craig R.

Rhoderick, Jay E.

Richardson, Herbert

Rispoli, James A.

Roberts, Michael NMN.

Robison, Sally A.

Rodeheaver, Thomas N.

Rodekohr, Mark E.

Rodgers, Stephen J.

Rollow, Thomas A.

Rosen, Simon Peter

Rudins, George NMN.

Rudy, Gregory P.

Ryder, Thomas S.

Salmon, Jeffrey T.

Salm, Philip E.

Sato, Walter N.

Schepens, Roy J.

Schmitt, Eugene C.

Schmitt, William A.

Schnapp, Robert M.

Schneider, Sandra L.

Schoenbauer, Martin J.

Schweitzer, Eric A.

Schwier, Jean F.

Scott, Bruce B.

Scott, Randal S.

Sellers, Elizabeth D.

Shages, John D.

Sharpley, Christopher R.

Shaw, John S.

Shearer, Elizabeth L.

Sherman, Helen O.

Silbergleid, Steven A.

Simpson, Christopher

Simpson, Edward R.

Singer, Marvin I.

Siskin, Edward J.

Sitzer, Scott B.

Skubel, Stephen C.

Slutz, James A.

Smith, Alan C.

Smith, Alexandra B.

Smith, Barry Alan

Smith, Stephen M.

Snider, Linda J.

Sohinki, Stephen M.

Solich, Donald J.

Stadler, Silas D.

Staffin, Robin NMN.

Stallman, Robert M.

Stark, Richard M.

Stevens, Walter J.

Stewart Jr, Jake W.

Stone, Barbara R.

Strakey Jr, Joseph P.

Strauss, Neal J.

Sullivan, Daniel J.

Sullivan, John R.

Swailes, John H.

Sweeney II, James R.

Swift, Justin R.

Swink, Denise F.

Sylvester, William G.

Taboas, Anibal L.

Tavares, Antonio F.

Taylor, William J.

Tedrow, Richard T.

Thomas, Iran L.

Todd, John C.

Torkos, Thomas M.

Trautman, Stephen J.

Triay, Ines R.

Tryon, Arthur E.

Turi, James A.

Turner, James M.

Underwood, William R.

Vagts, Kenneth A.

Valdez, William J.

Van Fleet, James L.

Vanzandt, Vickie A.

Vieth, Jill Schroeder

Wagner, Patrice M.

Wahlquist, Earl J.

Waisley, Sandra L.

Walsh, Robert J.

Warnick, Walter L.

Weedall, Michael J.

Weis, Michael J.

Whatley, Michael D.

Whitaker Jr, Mark B.

Wieker, Thomas L.

Wilcher, Larry D.

Wilken, Daniel H.

Williams, Alice C.

Williams, Mark H.

Williams, Richard N.

Willingham Jr,Frank M.

Willis, John W.

Wilmot, Edwin L.

Worthington, Patricia R.

Wright, Stephen J.

Wunderlich, Robert C.

Yuan-Soo Hoo, Camille C.

Zamorski, Michael J.

Ziesing, Rolf F.

Issued in Washington, DC.
Bruce M. Carnes,
Director, Office of Management, Budget and Evaluation/Chief Financial Officer.

[FR Doc. 02-26671 Filed 10-18-02; 8:45 am]

BILLING CODE 6450-01-P